DEPARTMENT OF THE INTERIOR

Bureau of Land Management

[CA-310-1820-AE]

Notice of Public Meeting: Northeast California Resource Advisory Council

AGENCY: Bureau of Land Management, Interior.

ACTION: Notice of public meeting.

SUMMARY: In accordance with the Federal Land Policy and Management Act of 1976 (FLPMA), and the Federal Advisory Committee Act of 1972 (FACA), the U. S. Department of the Interior, Bureau of Land Management (BLM) Northeast California Resource Advisory Council will meet as indicated below.

DATES: The meeting will be held Thursday and Friday, Oct. 17 and 18, 2002, in the Conference Center at John Asquaga's Nugget in Sparks, Nevada. On Oct. 17, the meeting begins at 1 p.m. Time for public comments has been set aside at 3 p.m. On Oct. 18, the council will convene at 7:30 a.m. in joint session with the BLM Sierra Front/Northwestern Great Basin Resource Advisory Council.

FOR FURTHER INFORMATION CONTACT: Tim Burke, Field Manager, BLM Alturas Field Office, 708 West 12th St., Alturas, CA; or BLM Public Affairs Officer Joseph J. Fontana, telephone (530) 252-5332.

SUPPLEMENTARY INFORMATION: The 15-member council advises the Secretary of the Interior, through the BLM, on a variety of planning and management issues associated with public land management in Northeast California and Northwest Nevada. At this meeting, agenda topics include an update on conservation planning for sage grouse, western juniper management, and a status report on land use planning for northeast California and northwest Nevada lands. The council will also hear status reports from the managers of the BLM's Alturas, Eagle Lake and Surprise field offices. In the Oct. 18 joint session, the council members will hear a report from their National Conservation Area subcommittee, which has been assisting BLM with development of a draft management plan for the Black Rock Desert-High Rock Canyon-Emigrant Trails National Conservation Area. The council members will also hear a briefing on NCA management from the Black Rock-High Rock NCA staff.

All meetings are open to the public. Members of the public may present written comments to the council. Each formal council meeting will have time allocated for public comments. Depending on the number of persons wishing to speak, and the time available, the time for individual comments may be limited. Individuals who plan to attend and need special assistance, such as sign language interpretation and other reasonable accommodations, should contact the BLM as provided above.

Dated: August 20, 2002.
Joseph J. Fontana,
Public Affairs Officer.

[FR Doc. 02-21712 Filed 8-26-02; 8:45 am]

BILLING CODE 4310-40-P